FEDERAL COMMUNICATIONS COMMISSION

[FRS 16990]

Deletion of Items From August 6, 2020 Open Meeting

August 5, 2020.

The following items have been adopted by the Commission and deleted from the list of items scheduled for consideration at the Thursday, August 6, 2020, Open Meeting. The items were previously listed in the Commission's Notice of Thursday, July 30, 2020.

Item No. | Bureau | Subject
3 | MEDIA | Title: Common Antenna Siting Rules (MB Docket No. 19-282); Modernization of Media Regulation Initiative (MB Docket No. 17-105).
|  | Summary: The Commission will consider a Report and Order that would eliminate the common antenna siting rules for FM and TV broadcaster applicants and licensees.
4 | CONSUMER & GOVERNMENTAL AFFAIRS | Title: Telecommunications Relay Service (CG Docket No. 03-123). Summary: The Commission will consider a Report and Order to repeal certain TRS rules that are no longer needed in light of changes in technology and voice communications services.

Federal Communications Commission.
Marlene Dortch,
Secretary.

[FR Doc. 2020-17565 Filed 8-11-20; 8:45 am]

BILLING CODE 6712-01-P